DEPARTMENT OF TRANSPORTATION

National Highway Traffic Safety Administration

[Docket No. NHTSA-2021-0059]

Agency Information Collection Activities; Notice and Request for Comments; Consolidated Vehicles' Owner's Manual Requirements for Motor Vehicles and Motor Vehicle Equipment

AGENCY: National Highway Traffic Safety Administration (NHTSA), Department of Transportation (DOT).

ACTION: Notice and request for comments on a reinstatement with modification of a previously approved information collection.

SUMMARY: The National Highway Traffic Safety Administration invites public comments about our intention to request approval from the Office of Management and Budget (OMB) to reinstate a previously approved information collection with modification. Before a Federal agency can collect certain information from the public, it must receive approval from OMB. Under procedures established by the Paperwork Reduction Act of 1995, before seeking OMB approval, Federal agencies must solicit public comment on proposed collections of information, including extensions and reinstatements of previously approved collections. This document describes a collection of information for which NHTSA intends to seek OMB approval on Vehicle Owner's Manual Requirements for Motor Vehicles and Motor Vehicle Equipment. NHTSA is requesting a modification of the information collection to include regulatory changes made by NHTSA's Adaptive Driving Beam Headlamps final rule. NHTSA is also requesting modification to include requirements for owner's manuals in NHTSA's existing regulations.

DATES: Written comments should be submitted by April 25, 2022.

ADDRESSES: You may submit comments, identified by NHTSA docket number identified above, through any of the following methods:

• Electronic submissions: Go to the Federal eRulemaking Portal at https://www.regulations.gov. Follow the online instructions for submitting comments.

• Fax: 202-493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to https://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to https://www.regulations.gov or the street address listed above. Follow the online instructions for accessing the dockets via internet.

FOR FURTHER INFORMATION CONTACT: For additional information or access to background documents, contact James Myers, NHTSA, 1200 New Jersey Avenue SE, West Building, Room W43-320, NRM-100, Washington, DC 20590. Mr. Myers' telephone number is 202-493-0031. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Consolidated Vehicle Owner's Manual Requirements for Motor Vehicles and Motor Vehicle Equipment.

OMB Control Number: 2127-0541.

Form Numbers: N/A.

Type of Request: Request for reinstatement with modification of a previously approved collection of information.

Type of Review Requested: Regular.

Requested Expiration Date of Approval: 3 years from date of approval.

Summary of the Collection of Information:

NHTSA is seeking approval for a reinstatement with modification of a previously approved information collection request (ICR) covering fifteen information collections. These information collections require or ask manufacturers of motor vehicles and motor vehicle equipment to provide information in owner's manuals, as specified in the Federal motor vehicle safety standards and other NHTSA regulations. The modification reflects regulatory changes contained in the Adaptive Driving Beam (ADB) final rule published today affecting FMVSS No. 108, “Lamps, reflective devices, and associated equipment.” The modification also covers information collection requirements inadvertently left out of previous ICRs.

The National Traffic and Motor Vehicle Safety Act authorizes the Secretary of Transportation (NHTSA by delegation), at 49 U.S.C. 30111, to issue Federal Motor Vehicle Safety Standards (FMVSS) that set performance standards for motor vehicles and items of motor vehicle equipment. Further, the Secretary (NHTSA by delegation) is authorized, at 49 U.S.C. 30117, to require manufacturers to provide information to first purchasers of motor vehicles or items of motor vehicle equipment related to performance and safety in printed materials that are attached to or accompany the motor vehicle or item of motor vehicle equipment. NHTSA has exercised this authority to require manufacturers to provide certain specified safety information to be readily available to consumers and purchasers of motor vehicles and items of motor vehicle equipment. This information is most often provided in vehicle owners' manuals and the requirements are found in 49 CFR parts 563, 571, and 575. This information collection request only covers requirements or requests to provide information that is not provided verbatim in the regulation or standard. The information requirements or requests are included in: Part 563, “Event data recorders;” FMVSS No. 108, “Lamps, reflective devices, and associated equipment;” FMVSS No. 110, “Tire selection and rims;” FMVSS No. 138, “Tire Pressure Monitoring Systems;” FMVSS No. 202a, “Head restraints;” FMVSS No. 205, “Glazing materials;” FMVSS No. 208, “Occupant crash protection;” FMVSS No. 210, “Seat belt assembly anchorages;” FMVSS No. 213, “Child restraint systems;” FMVSS No. 225; “Child restraint anchorage systems:” FMVSS No. 226, “Ejection mitigation;” FMVSS No. 303, “Fuel System Integrity of Compressed Natural Gas Vehicles;” section 575.103, “Truck-camper loading;” section 575.104, “Uniform tire quality grading standards;” and section 575.105, “Vehicle rollover.” NHTSA is seeking approval from OMB for reinstatement with modification of this previously approved collection. Details of the information collection and modifications are described below.

Part 563—Event data recorders. Section 563.11 requires manufacturers of vehicles equipped with event data recorders (EDRs) to provide a prescribed statement in the owner's manual.¹ However, this statement is provided verbatim in the regulation and, therefore, is not an information collection. Section 563.11 also states that the owner's manual may include additional information about the form, function, and capabilities of the EDR, in supplement to the required statement. This voluntary disclosure of information is an information collection for which NHTSA is seeking approval.

¹ 49 CFR 563.11(a).

FMVSS No. 108, “Lamps, reflective devices, and associated equipment.” This standard requires that certain lamps and reflective devices with certain performance levels be installed on motor vehicles to assure that the roadway is properly illuminated, that vehicles can be readily seen, and the signals can be transmitted to other drivers sharing the road during day, night, and inclement weather. In addition to establishing performance requirements for those lamps and reflective devices, FMVSS No. 108 also contains provisions requiring manufacturers to provide instructions or information on the lighting device.

NHTSA is seeking approval to modify two of these requirements. The first (in S10.18.8.2) requires manufacturers to provide instructions so that owners, as well as traditional vehicle service personnel, can aim their vehicle's Vehicle Headlamp Aiming Device (VHAD) headlamps using equipment that is an integral part of the headlamp system. Because the specific manner in which headlamp aiming is to be performed is not regulated (only the performance of the device is), aiming devices manufactured or installed by different vehicle and headlamp manufacturers may work in significantly different ways. To assure that the VHAD can be correctly aimed, this standard requires that instructions for proper use of VHAD systems be part of the vehicle as a label, or optionally, be placed in the vehicle owner's manual. The second informational requirement NHTSA is seeking to modify (S9.4.1.1) requires manufacturers to provide information regarding how to operate semiautomatic beam switching devices.

On October 12, 2018 (83 FR 51766), NHTSA published a Notice of Proposed Rulemaking (NPRM) proposing performance requirements for adaptive driving beam (ADB) headlighting systems. NHTSA is today publishing a final rule (Docket No. NHTSA-2021-0062) that modifies the informational requirements referred to above.

First, the ADB final rule modifies the requirements regarding providing instructions for VHADs in S10.18.8.2.1. Prior to this final rule, the standard required manufacturers to provide instructions advising that the headlighting system is properly aimed if the appropriate vertical plane (as defined by the vehicle manufacturer) is perpendicular to both the longitudinal axis of the vehicle, and a horizontal plane when the vehicle is on a horizontal surface, and the VHAD is set at “0” vertical and “0” horizontal. The final rule changes this provision to require manufacturers to provide instructions either on a label permanently affixed to the vehicle adjacent to the VHAD, or in the operator's manual, advising the vehicle owner what to do if the headlighting system requires aiming, using the VHAD.

Second, the ADB final rule modifies the requirements in S9.4.1.1 for manufacturers to provide instructions for operating semiautomatic headlamp switching devices. Prior to this final rule, the standard required manufacturers to provide instructions on how to operate the device correctly, including: How to turn the automatic control on and off; how to adjust the sensitivity control; and any other specific instructions applicable to the device. The final rule modifies this by excluding ADB systems from the requirement to provide instructions on how to adjust the sensitivity control.

FMVSS No. 110, “Tire selection and rims.” This standard specifies requirements for tire selection to prevent tire overloading. The vehicle's normal load and maximum load on the tire shall not be greater than applicable specified limits. Section 7.2 of FMVSS No. 110 requires certain information in the owner's manual for vehicles equipped with a non-pneumatic spare tire. The owner's manual of the passenger car shall contain, in writing in the English language and in not less than 10 point type, the following information under the heading “IMPORTANT—USE OF SPARE TIRE”: (a) A statement indicating the information related to appropriate use for the non-pneumatic spare tire including at a minimum the information set forth in S6 (a) and (b) and either the information set forth in S4.3(g) or a statement that the information set forth in S4.3(g) is located on the vehicle placard and on the non-pneumatic tire; (b) An instruction to drive carefully when the non-pneumatic spare tire is in use, and to install the proper pneumatic tire and rim at the first reasonable opportunity; and (c) A statement that operation of the passenger car is not recommended with more than one non-pneumatic spare tire in use at the same time.

FMVSS No. 138, “Tire pressure monitoring systems.” This standard specifies requirements for a tire pressure monitoring system to warn the driver of an under-inflated tire condition. Its purpose is to reduce the likelihood of a vehicle crash resulting from tire failure due to operation in an under-inflated condition. The standard requires the owner's manual to include specific information on the low-pressure warning telltale and the malfunction indicator telltale. While most of this information is provided verbatim, the statement requires some customization. FMVSS No. 138, also states that the owner's manual may include additional information about the time for the TPMS telltale(s) to extinguish once the low tire pressure condition or the malfunction is corrected. It may also include additional information about the significance of the low tire pressure warning telltale illuminating, a description of corrective action to be undertaken, whether the tire pressure monitoring system functions with the vehicle's spare tire (if provided), and how to use a reset button, if one is provided.

FMVSS No. 202a, “Head restraints.” This standard specifies requirements for head restraints. The standard, which seeks to reduce whiplash injuries in rear collisions, currently requires head restraints for front outboard designated seating positions in passenger cars and in light multipurpose passenger vehicles, trucks and buses with a gross vehicle weight rating of 4,536 kg or less and specifies requirements for optionally provided rear outboard seat head restraints in the same vehicles. The standard requires that vehicle manufacturers include information in owner's manuals for vehicles manufactured on or after September 1, 2008. The owner's manual must clearly identify which seats are equipped with head restraints. If the head restraints are removable, the owner's manual must provide instructions on how to remove the head restraint by a deliberate action distinct from any act necessary for adjustment, and how to reinstall the head restraints. The owner's manual must warn that all head restraints must be reinstalled to properly protect vehicle occupants. Finally, the owner's manual must describe, in an easily understandable format, the adjustment of the head restraints and/or seat back to achieve appropriate head restraint position relative to the occupant's head.

FMVSS No. 205, “Glazing materials.” This standard specifies requirement for all glazing material used in windshields, windows, and interior partitions of motor vehicles. Its purpose is to reduce injuries resulting from impact to glazing surfaces, to ensure a necessary degree of transparency in motor vehicle windows for driver visibility, and to minimize the possibility of occupants being thrown through the vehicle windows in collisions. Detailed information regarding the care and maintenance of plastic glazing items, such as a glass-plastic windshield, is required to be placed in the vehicle owner's manual.

FMVSS No. 208, “Occupant crash protection.” This standard specifies requirements for both active and passive occupant crash protection systems for passenger cars, multipurpose passenger vehicles, trucks, and buses. Certain safety features, such as air bags, or the care and maintenance of air bag systems, are required to be explained to the owner by means of the owner's manual. For example, the owner's manual must describe the vehicle's air bag system and provide precautionary information about the proper positioning of the occupants, including children. The owner's manual must also warn that no objects should be placed over or near the air bag covers. The owner's manual must also describe the operation of any tension relieving and locking features of the provided seat belts. There is also required information about the operation of seat belt assemblies and other information that could total up to about 20 pages in the owner's manual. This material would also need to be kept current with the latest technical information on an annual basis.

FMVSS No. 210, “Seat belt assembly anchorages.” This standard specifies requirements for seat belt assembly anchorages to ensure effective occupant restraint and to reduce the likelihood of failure in a crash. FMVSS No. 210 requires that manufacturers place the following information in the vehicle owner's manual: (a) An explanation that child restraints are designed to be secured by means of the vehicle's seat belts, and (b) a statement alerting vehicle owners that children are always safer in the rear seat.

FMVSS No. 213; “Child restraint systems.” This standard specifies requirements for built-in child restraint systems and requires vehicle manufacturers provide consumers with information about the operation and do's and don'ts in its owner's manual.

FMVSS No. 225; “Child restraint anchorage systems.” This standard establishes requirements for child restraint anchorage systems to ensure their proper location and strength for the effective securing of child restraints, to reduce the likelihood of the anchorage systems' failure, and to increase the likelihood that child restraints are properly secured and thus more fully achieve their potential effectiveness in motor vehicles. The vehicle owner's manual must provide written instructions, in English, for using the tether anchorages and the child restraint anchorage system in the vehicle. Instructions must at a minimum indicate which seating positions in the vehicle are equipped with tether anchorages and child restraint anchorage systems, explain the meaning of markings provided to locate the lower anchorages, and include instructions that provide a step-by-step procedure (including diagrams) for properly attaching a child restraint system's tether strap to the tether anchorages.

FMVSS No. 226, “Ejection mitigation.” This standard establishes vehicle requirements intended to reduce the partial and complete ejection of vehicle occupants through side windows in crashes, particularly rollover crashes. The standard applies to passenger cars, and to multipurpose passenger vehicles, trucks, and buses with a gross vehicle weight rating of 4,536 kg (10,000 pounds) or less. Written information must be provided that describes any ejection mitigation countermeasure that deploys in the event of a rollover and a discussion of the readiness indicator with a list of the elements of the system being monitored by the indicator, a discussion of the purpose and location of the telltale, and instructions to the consumer on the steps to take if the telltale is illuminated.

FMVSS No. 303, “Fuel System Integrity of Compressed Natural Gas Vehicles.” This standard specifies requirements for the integrity of motor vehicle fuel systems using compressed natural gas (CNG), including the CNG fuel systems of bi-fuel, dedicated, and dual fuel CNG vehicles. This regulation requires manufacturers to permanently label CNG vehicles, near the vehicle refueling connection, with service pressure information and the statement “See instructions on fuel container for inspection and service life.” Manufacturers of CNG vehicles must also provide a first purchaser this information in either an owner's manual or a one-page document.

Section 575.103, “Truck-camper loading.” This regulation requires manufacturers of slide-in campers to affix to each camper a label that contains information relating to identification and proper loading of the camper and to provide more detailed loading information in the owner's manual. This regulation also requires manufacturers of trucks that would accommodate slide-in campers to specify the cargo weight ratings and the longitudinal limits within which the center of gravity for the cargo weight rating should be located.

Section 575.104, “Uniform tire quality grading standards.” This regulation requires manufacturers of motor vehicles to inform the drivers of the type and quality of the tires with which their vehicles are equipped. Manufacturers must include in the vehicle owner's manual a list of all possible grades for traction and temperature resistance and restate verbatim the explanation for each performance area specified in § 575.104 Figure 2, Part II. The information must contain a statement referring the reader to the tire sidewall for the specific tire grades for the tires with which the vehicle is equipped.

Section 575.105, “Vehicle rollover.” This regulation requires manufacturers of utility vehicles ² to alert the drivers of those vehicles that they have a higher possibility of rollover than other vehicle types and to advise them of steps that can be taken to reduce the possibility of rollover and/or to reduce the likelihood of injury in a rollover. The owner's manual must include a discussion of the vehicle design features which cause this type of vehicles to be more likely to rollover (e.g., higher center of gravity) and a discussion of the driving practices that can reduce the risk of a rollover (e.g., avoiding sharp turns at excessive speed).

² 49 CFR 575.105 states Utility vehicles means multipurpose passenger vehicles (other than those which are passenger car derivatives) which have a wheelbase of 110 inches or less and special features for occasional off-road operation.

Description of the Need for the Information and Proposed Use of the Information

The purpose of requiring that certain information be provided in manuals is to ensure owners and operators are provided with readily accessible important information about critical components of their vehicles, such as the performance of their vehicle or instructions for proper operation. The Federal program for reducing highway fatalities, injuries and crashes is likely to be adversely affected if the information is not collected, since consumers would not be made readily aware of certain important safety provisions that apply to critical components of their vehicles and would not have a readily accessible source of information when circumstances require such information.

Earlier 60-Day Notice

On May 12, 2021, NHTSA published a notice in the Federal Register (86 FR 26128) soliciting comments on reinstating the collection of information (Consolidated Vehicle Owner's Manual Requirements for Motor Vehicles and Motor Vehicle Equipment). NHTSA received one comment from the Alliance for Automotive Innovation (Auto Innovators) requesting that NHTSA consider the development of new compliance options to permit digital format owners' manuals in lieu of hard copy (printed) owners' manuals. However, as no such compliance option currently exists, the Auto Innovators' request to change the FMVSS is outside of the scope of this reinstatement request. NHTSA will consider the request for future Agency action.

Affected Public: Vehicle manufacturers.

Estimated Number of Respondents: 52.

Frequency: On occasion.

Number of Responses: 52.

Estimated Total Annual Burden Hours: 8,628.

NHTSA estimates the burden for each of the information collections individually based on the estimated number of manufacturers expected to need to comply with the requirements and the estimated time each manufacturer spends each year complying with the requirements to put specific information into owner's manual. To calculate manufacturer burden, NHTSA has estimated the time to compile, revise, and review information for owner's manuals by vehicle model. This estimate is informed by the estimated number of vehicle models that would be subject to the requirements and also the expected number of new models or models undergoing changes that would necessitate updates to owner's manuals.

Part 563—Event Data Recorders. NHTSA estimates that the vehicle manufacturers that voluntarily provide this additional information in the owner's manual incur minimal burden. We conservatively estimate that half of the 406 vehicle models for light duty vehicles will have owner's manuals that contain this supplemental information and that the burden for updating and reviewing this information will be 1 hour per model line. This would result in 203 annual burden hours (203 vehicle model lines × 1 hour of time × 1 manual per model).

FMVSS No. 108, “Lamps, reflective devices, and associated equipment.”

Vehicle Headlamp Aiming Device

Considering that we anticipate adaptive driving beam systems to include a horizontal vehicle headlamp aiming device (VHAD), it is estimated 50% of models will offer adaptive driving beam headlighting systems on at least one trim level that will include a VHAD. Vehicles equipped with VHAD headlamps, for one model line with new VHAD headlamps, the time to collect the required information, prepare technical input, and review for accuracy of the required information placed for publication in the owner's manual template is estimated to be 4 hours per manual. In a carry-over vehicle owner's manual, we estimate that it would take a vehicle manufacturer 1 hour to review the required information for continued accuracy relating to VHAD systems. Section 571.108 permits each manufacturer a choice in placing headlamp aiming instruction in the owner's manual or on a label affixed to the vehicle. We estimate about half of the VHAD aiming applications would be on labels attached to the VHAD, with the remainder (50%) using information in the owner's manual to convey the necessary information. Therefore, the number of annual burden hours imposed on manufacturers whose vehicles are subject to FMVSS No. 108 would be determined from the number of model lines produced annually (of which an estimated 25% are new and 75% are non-new, a repeat of previous years' model lines) multiplied by the portion of vehicles equipped with VHAD headlamps multiplied by the estimated number of hours required to assemble the required information (estimated to be 4 hours of review for new vehicles and 1 hour to review the information for non-new models). The annual burden hours required by FMVSS No. 108's VHAD section in the owner's manual is 383 hours ((438 models × 0.5 use VHAD × 0.25 new models × 4 hours/model) + (438 models × 0.5 use VHAD × 0.75 non-new models × 1 hour/model)).

SemiAutomatic Beam Switching Devices

We estimate that approximately 80% of new vehicle models include a semiautomatic beam switching device (either traditional semiautomatic beam switching or adaptive driving beam) on at least one trim level for the U.S. market. For new model vehicles equipped with semiautomatic beam switching devices (SABs), the time to collect the required information, prepare technical input, and review for accuracy of the required information placed for publication in the owner's manual template is estimated to be 4 hours per manual. In a carry-over vehicle owner's manual, we estimate that it would take a vehicle manufacturer 1 hour to review the required information for continued accuracy relating to semiautomatic beam switching devices. Section 571.108 requires manufacturers to provide instructions on how to operate semiautomatic beam switching devices if they are installed on the vehicle. The number of annual burden hours imposed on manufacturers whose vehicles are subject to FMVSS No. 108 would be determined from the number of model lines produced annually (of which an estimated 25% are new and 75% are non-new, a repeat of previous years' model lines) multiplied by the portion of vehicles equipped with semiautomatic beam switching devices multiplied by the estimated number of hours required to assemble the required information (estimated to be 4 hours of review for new models and 1 hour to review the information for non-new models). The annual burden hours required by FMVSS No. 108's semiautomatic beam switching device section in the owner's manual is 613 hours ((438 models × 0.8 offer SABs × 0.25 new models × 4 hours/model) + (438 models × 0.8 offer SABs × 0.75 non-new models × 1 hour/model)).

FMVSS No. 110, “Tire selection and rims.” Currently, manufacturers do not equip current passenger vehicles, trucks, buses, trailers, or motorcycles with non-pneumatic spare tires. If vehicles were equipped with non-pneumatic spare tires, the number of annual burden hours imposed on manufacturers who choose to equip their vehicles with this equipment would be determined from the number of model lines produced annually (of which an estimated 25% are new and 75% are on-new, a repeat of previous years' model lines) multiplied by the portion of vehicle models equipped with non-pneumatic spare tires multiplied by the estimated number of hours required to assemble the required information (estimated to be 4 hours of review for new vehicles and 1 hour to review the information for non-new vehicles). The product of these factors would provide the number of hours required by manufacturers to produce necessary information to place into an owner's manual “master” for printing. Because manufacturers do not equip current passenger vehicles, trucks, buses, trailers, or motorcycles with non-pneumatic spare tires, NHTSA estimates the hour burden as 0 hours.

FMVSS No. 138, “Tire pressure monitoring systems.” The information required by FMVSS No. 138 to be included in the owner's manual is provided verbatim and may be taken from the Federal regulation in its entirety. FMVSS No. 138, also states that the owner's manual may include additional information about the low-pressure telltale and the malfunction indicator telltale. NHTSA estimates the burden to be 1 hour for the respondents to compile, review, and revise the additional information. There is an average of 438 model lines each year that include tire pressure monitoring information in the owner's manual. Therefore, NHTSA estimates the total annual burden hours for § 571.138 to be 438 hours (438 model lines × 1 manual per model × 1 hour).

FMVSS No. 202a, “Head restraints.” It is estimated that 438 model lines need to be reviewed annually, but only a fraction (25 percent) need major revision each year. It is further estimated that it would take 5 hours to complete the major revisions. The remaining fraction of model lines (75 percent) only require reverification of existing information. The total annual burden hours are estimated to be 876 hours ((438 model lines × 0.25 needing revision × 5 hours) + (438 model lines × 0.75 needing revision × 1 hour)).

FMVSS No. 205, “Glazing materials.” It is estimated that the burden to provide information in the owner's manual for detailed care and maintenance is minimal because manufacturers already provide this type of information in the vehicle cleaning and maintenance section of the owner's manual. NHTSA estimates a burden for each manual of 1 hour because manufacturers would need to verify that detailed care and maintenance information has been included in their cleaning and maintenance section of the owner's manual. The annual estimated burden from § 571.205 is 176 hours (176 model lines × 1 manual per model × 1 hour).

FMVSS No. 208, “Occupant crash protection.” A conservative estimated burden to produce the required text and information is 16 hours (or 2 days). It is also estimated that a fraction (25 percent) of the model lines would require updates annually. The remaining fraction of model lines (75 percent) only require reverification (1-hour burden) of existing information. This would result in 2,750 annual burden hours ((579 vehicle model lines × 0.25 percent that need updating × 16 hours of time) + (579 model lines × 0.75 needing revision × 1 hour)).

FMVSS No. 210, “Seat belt assembly anchorages.” It is estimated that it would take a vehicle manufacturer no more than 1 hour per vehicle model line to assemble all of the FMVSS No. 210 information for inclusion in the owner's manual. This would result in 438 annual burden hours (438 vehicle model lines × 1 manual per model × 1 hour).

FMVSS No. 213, “Child restraint systems.” NHTSA estimates that the burden associated with compiling, revising, and reviewing FMVSS No. 213 information for owner's manuals will be minimal. This information must also be made available on strategically placed labels within the vehicles, in addition to the vehicle's owner's manual. Thus, it is assumed that the burden hours would be minimal since the information is already available from the information required to produce the labels. NHTSA estimates that there are very few vehicle models that are equipped with built-in child restraints. A conservative estimate is that no more than 20 models would have built-in child restraints. This would result in 20 annual burden hours (20 vehicle model lines × 1 manual per model × 1 hour).

FMVSS No. 225, “Child restraint anchorage systems.” NHTSA estimates that it takes a vehicle manufacturer no more than 5 hours to compile the required material and that only a fraction (25 percent) would need major revisions each year. The remaining fraction of model lines (75 percent) only require reverification (1-hour burden) of existing information. This would result in 876 annual burden hours ((438 vehicle model lines × 1 manual per model × 0.25 (percent requiring major revisions) × 5 hours of time) + (438 model lines × 1 manual per model × 0.75 (percent requiring reverification) × 1 hour)).

FMVSS No. 226, “Ejection mitigation.” NHTSA estimates that it takes a vehicle manufacturer no more than 8 hours to compile the required material and it is estimated that a fraction (25 percent) would need major revisions each year. The remaining fraction of model lines (75 percent) only require reverification (1-hour burden) of existing information. This would result in 1,205 annual burden hours ((438 vehicle model lines × 1 manual per model × 0.25 (percent that need major revision) × 8 hours of time) + (438 model lines × 1 manual per model × 0.75 (percent needing reverification) × 1 hour)).

FMVSS No. 303, “Fuel System Integrity of Compressed Natural Gas Vehicles.” Vehicle manufacturers must provide specific information to the consumer dealing with CNG vehicles' fuel systems. The information must be available on the fuel container of the vehicle and must also be made available in the Vehicle owner's manual. For the purposes of this justification, NHTSA assumes that all the necessary information is already available from the information required to produce the fuel container labels. Therefore, there is a slight burden of 1 hour for respondents to include this information in their owner's manuals. This would result in 18 annual burden hours (18 vehicle model lines × 1 manual per model × 1 hour of time).

Section 575.103, “Truck-camper loading.” The information required for the owner's manuals under section 575.103 is developed by manufacturers as part of their routine engineering development for their vehicles. The figures to include in truck and slide-in camper owner's manuals are provided in the regulation. Therefore, there is a slight 1-hour burden for respondents to include this information in their owner's manuals. This would result in 35 annual burden hours (35 vehicle model lines × 1 manual per model × 1 hour of time).

Section 575.104, “Uniform tire quality grading standards.” This requirement directs manufacturers to provide a statement in the owner's manual, that is provided in the regulation almost in its entirety or equivalent form. This regulation requires manufacturers of motor vehicles to include in the vehicle owner's manual a list of all possible grades for traction and temperature resistance and restate verbatim the explanation for each performance area specified in section 575.104 Figure 2, Part II. A statement is provided in the regulation which manufacturers shall include, in its entirety or equivalent form, in the owner's manual. Therefore, NHTSA estimates that the burden for compiling, revising, and reviewing this information will only take 1 hour per model each year. This results in 579 annual burden hours (579 vehicle model lines × 1 manual per model × 1 hour of time).

Section 575.105, “Vehicle rollover.” To comply with Section 575.105, manufacturers of utility vehicles must include, in the owner's manual, a discussion of the vehicle design features which cause this type of vehicles to be more likely to rollover (e.g., higher center of gravity) and a discussion of the driving practices that can reduce the risk of a rollover (e.g., avoiding sharp turns at excessive speed). NHTSA estimates that because this information should be readily available, that it will take manufacturers 1 hour each year to compile, revise, and review the information for inclusion in the owner's manuals. This would result in 18 annual burden hours (18 vehicle model lines × 1 manual per model × 1 hour of time).

The labor costs associated with these burden hours are derived by using hourly labor rates published by the Bureau of Labor Statistics (BLS). For the burden hours associated with compiling the owner's manual information required under the FMVSSs, NHTSA uses the mean hourly wage of $35.41 per hour for “Technical Writers” (occupational code 27-3042).³ BLS estimates that hourly wages represent approximately 70.2% of total compensation for private industry workers.⁴ Therefore, NHTSA estimates the labor cost associated with less senior Technical Writers to be $50.44 per hour. The total labor cost associated with the burden hours of this information collection are determined by multiplying the annual burden hours by $50.44; therefore, the total annual labor costs are estimated to be $435,171 in each of the next three years.

³ May 2019 National Industry-Specific Occupational Employment and Wage Estimates, NAICS 336100—Motor Vehicle Manufacturing, https://www.bls.gov/oes/current/naics4_336100.htm#27-0000.

⁴ https://www.bls.gov/news.release/pdf/ecec.pdf. Accessed March 20, 2020. Table 1. Employer Costs for Employee Compensation by ownership [March 2020], https://www.bls.gov/news.release/ecec.t01.htm.

The table below summarizes the total hour burden and associated labor costs estimates.

Table 1—Estimated Hour Burden and Associated Labor Costs
Part/section | Brief title | Estimated total annual burden hours | Estimated total annual labor costs at $50.44/hour
563 | Event Data Recorders | 203 | $10,239
571.108 | Lighting-VHAD | 383 | 19,319
571.108 | Lighting-SABs | 613 | 30,920
571.110 | Tire Selection and Rims | 0 | 0
571.138 | Tire Pressure Monitoring | 438 | 22,093
571.202a | Head Restraints | 876 | 44,185
571.205 | Glazing | 176 | 8,877
571.208 | Crash Protection | 2,750 | 138,710
571.210 | Seat Belt Anchors | 438 | 22,093
571.213 | Child Restraints | 20 | 1,009
571.225 | Child Restraint Anchorages | 876 | 44,185
571.226 | Ejection Mitigation | 1,205 | 60,755
571.303 | CNG Fuel Systems | 18 | 908
575.103 | Truck-Camper Loading | 35 | 1,765
575.104 | Tire Quality | 579 | 29,205
575.105 | Utility Vehicles | 18 | 908
Totals |  | 8,628 | 435,171

Estimated Total Annual Burden Cost: $7,971,461.

NHTSA estimates that the only costs, other than labor costs associated with labor hours, for this information collection are costs associated with printing the owner's manuals. NHTSA has estimated these costs by multiplying the estimated number owner's manuals that will be produced by the number of words provided in the owner's manual in response to the information collection. This estimate is then multiplied by the estimated cost per word for printing.

Part 563—Event Data Recorders. NHTSA estimates that the word content in the owner's manual required by Part 563 would be 100 text words. Hence, the cost burden to vehicle manufacturers is estimated to be $30,566.25 (17,100,000 total vehicles × 50% of vehicles including added language in the owner's manuals × 100 text words × 1.1 production factor × 0.25 printing factor × $0.00013 per word). Cost burdens for this regulation were not included in the previous information collection request.

FMVSS No. 108, “Lamps, reflective devices, and associated equipment.” The ADB final rule amended the standard with specific instructions for using the VHAD to aim ADB headlighting systems. We amended the VHAD requirements from specifically saying that it should be aimed at zero to a more general phrase that tells the owner what they should do when the headlamps need aimed horizontally. We expect this to decrease the words needed to convey the required information from 500 words to 250 words.

The printing cost burden for these owner's manuals would be the number of vehicles produced annually multiplied by the portion of vehicles equipped with VHAD headlamps, multiplied by certain printing factors (an estimated 250 text words required per owner's manual, a 1.1 multiplier to account for aftermarket manuals, a 0.25 printing factor, and a $0.00013 cost per word). The annual cost burden to the respondents to include the information required by FMVSS No. 108's VHAD section in the owner's manual is $38,208 (17,100,000 vehicles × 0.5 use VHAD × 0.5 provide info in manual × 250 words of text × 1.1 production factor × 0.25 printing factor × $0.00013 per word).

The printing cost burden for these owner's manuals would be the number of vehicles produced annually multiplied by the portion of vehicles equipped with semiautomatic beam switching devices, multiplied by certain printing factors (an estimated 500 text words required per owner's manual, a 1.1 multiplier to account for aftermarket manuals, a 0.25 printing factor, and a $0.00013 cost per word). The annual cost burden to the respondents to include the information required by FMVSS No. 108's semiautomatic beam switching device section in the owner's manual is $244,530 (17,100,000 vehicles × 0.8 use SABs × 500 words of text × 1.1 production factor × 0.25 printing factor × $0.00013 per word).

FMVSS No. 110, “Tire selection and rims.” The printing cost burden for these owner's manuals would be the number of vehicles produced annually multiplied by the portion of vehicles equipped with non-pneumatic spare tires, multiplied by certain printing factors (an estimated 500 text words required per owner's manual, a 1.1 multiplier to account for aftermarket manuals, a 0.25 printing factor, and a $0.00013 cost per word). Because manufacturers do not equip current passenger vehicles, trucks, buses, trailers, or motorcycles with non-pneumatic spare tires, NHTSA estimates the printing cost to be $0.

FMVSS 571.138, “Tire pressure monitoring systems.” The recurring cost to the respondents to include the information required by section 571.138 is based on the typical length of the tire pressure monitoring system information that is required, including depictions of the low-pressure telltale and, if equipped, a separate malfunction indicator telltale. NHTSA estimates that this information is equivalent to 400 words of text for the average owner's manual. NHTSA estimates there are 17,100,000 new vehicles each year requiring tire pressure monitoring system information in the owner's manual. The annual cost burden to the respondents to include the information required by FMVSS No. 138 is $244,530 (17,100,000 vehicles × 400 words of text × 1.1 production factor × 0.25 printing factor × $0.00013 per word).

FMVSS 571.202a, “Head restraints.” NHTSA estimates that it would take approximately 4 pages of the owner's manual to disclose the required head restraint information. Assuming that a page of owner's manual information represents a typical density of 300 words per page, manufacturers would need to publish about 1,200 words of instructions or cautioning information for the average owner's manual. NHTSA estimates there are 17,100,000 new vehicles each year requiring head restraint information in the owner's manual. Therefore, the total recurring cost estimate is $733,590 (17,100,000 vehicles × 1,200 words of text × 1.1 production factor × 0.25 printing factor × $0.00013 per word).

FMVSS No. 205, “Glazing materials.” The word count required in the owner's manual is estimated to be 210 words. Only buses and low speed vehicles currently use plastic type glazing. Therefore, NHTSA estimates there are 17,400 new vehicles each year that include glazing information in the owner's manual. The annual cost burden to the respondents to include the information required by FMVSS No. 205 is estimated to be $130.63 (17,400 vehicles × 210 words of text × 1.1 production factor × 0.25 printing factor × $0.00013 per word).

FMVSS No. 208, “Occupant crash protection.” NHTSA estimates that the word content in the owner's manual required by FMVSS No. 208 would be 5,400 text words. Hence, the cost burden to vehicle manufacturers is estimated to be $3,397,680 (17,600,000 total vehicles × 5,400 text words × 1.1 production factor × 0.25 printing factor × $0.00013 per word).

FMVSS No. 210, “Seat belt assembly anchorages.” It is estimated that the word content in the owner's manual required by FMVSS No. 210 would be 400 text words. Hence, the cost burden to vehicle manufacturers is estimated to be $244,530 (17,100,000 total vehicles × 400 text words × 1.1 production factor × 0.25 printing factor × $0.00013 per word).

FMVSS No. 213, “Child restraint systems.” It is estimated that the recurring information required for child safety in the owner's manual would be 500 text words. NHTSA estimates that, conservatively, 5% of vehicles may be in lines that offer built in child restraints. Therefore, NHTSA estimates that there would be 880,000 vehicles with owner's manual containing information provided in response to this information collection. Hence, the cost burden to vehicle manufacturers is estimated to be $15,730 (880,000 total vehicles × 500 text words × 1.1 production factor × 0.25 printing factor × $0.00013 per word).

FMVSS No. 225, “Child Restraint Anchorage Systems.” NHTSA estimates that the word content in the owner's manual required by FMVSS No. 225 would be 1,500 text words. Hence, the cost burden to vehicle manufacturers is estimated to be $943,800 (17,600,000 total vehicles × 1,500 text words × 1.1 production factor × 0.25 printing factor × $0.00013 per word).

FMVSS No. 226, “Ejection Mitigation.” NHTSA estimates that the word content in the owner's manual required by FMVSS No. 226 would be 3,000 text words. Hence, the cost burden to vehicle manufacturers is estimated to be $1,833,975 (17,100,000 total vehicles × 3,000 text words × 1.1 production factor × 0.25 printing factor × $0.00013 per word).

FMVSS No. 303, “Fuel System Integrity of Compressed Natural Gas Vehicles.” NHTSA estimates that no more than 50 words are required in the owner's manual to comply with the requirements in FMVSS No. 303. There are conservatively 20,000 CNG vehicles produced annually. Hence, the cost burden to CNG vehicle manufacturers is estimated to be $35.75 (20,000 total units × 50 text words × 1.1 production factor × 0.25 printing factor × $0.00013 per word). Cost burdens for this regulation were not included in the previous information collection request.

Section 575.103, “Truck-camper loading.” It is estimated that 480 words are required in the owner's manual to comply with § 575.103. There are approximately 2,300,000 pickup trucks and 11,000 truck camper units produced annually. These total to an annual production of 2,311,000 units. Hence, the cost burden to vehicle manufacturers is estimated to be $39,656.76 (2,311,000 total units × 480 text words × 1.1 production factor × 0.25 printing factor × $0.00013 per word).

Section 575.104, “Uniform tire quality grading standards.” NHTSA estimates that 390 words are minimally required in the owner's manual to comply with § 575.104. There are approximately 13,857,300 vehicles covered by this regulation. Hence, the cost burden to vehicle manufacturers is estimated to be $193,205.41 (13,857,300 total vehicles × 390 text words × 1.1 production factor × 0.25 printing factor × $0.00013 per word). Cost burdens for this regulation were not included in the previous information collection request.

Section 575.105, “Vehicle rollover.” NHTSA estimates that 117 words are minimally required in the owner's manual to comply with section 575.105. There are approximately 2,700,000 utility vehicles with 4-wheel drive and a wheelbase of 110 inches or less. Therefore, the cost burden to vehicle manufacturers is estimated to be $11,293.43 (2,700,000 total vehicles × 117 text words × 1.1 production factor × 0.25 printing factor × $0.00013 per word). Cost burdens for this regulation were not included in the previous information collection request.

The total annual cost to the respondents for information published in vehicles' owner's manuals is summarized in the table below.

Table 2—Estimated Printing Costs
Part/section | Brief title | Estimated total costs to respondents
563 | Event Data Recorders | $30,566
571.108 | Lighting-VHAD | 38,208
571.108 | Lighting-SABs | 244,530
571.110 | Tire Selection and Rims | 0
571.138 | Tire Pressure Monitoring Systems | 244,530
571.202a | Head Restraints | 733,590
571.205 | Glazing | 131
571.208 | Occupant Crash Protection | 3,397,680
571.210 | Seat Belt Assembly Anchors | 244,530
571.213 | Child Restraints Systems | 15,730
571.225 | Child Restraint Anchorage Systems | 943,800
571.226 | Ejection Mitigation | 1,833,975
571.303 | Fuel System Integrity of Compressed Natural Gas Vehicles | 36
575.103 | Truck-Camper Loading | 39,657
575.104 | Uniform Tire Quality Grading Standards | 193,205
575.105 | Vehicle Rollover | 11,293
Total Costs |  | 7,971,461

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. The agency will summarize and/or include your comments in the request for OMB's clearance of this information collection.

Authority: The Paperwork Reduction Act of 1995; 44 U.S.C. Chapter 35, as amended; 49 CFR 1.49; and DOT Order 1351.29.

Raymond R. Posten,
Associate Administrator for Rulemaking.

[FR Doc. 2022-02453 Filed 2-18-22; 8:45 am]

BILLING CODE 4910-59-P